DEPARTMENT OF COMMERCE

National Oceanic and Atmospheric Administration

Proposed Information Collection; Comment Request; California-Oregon-Washington Coastal Purse Seine Survey.

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 29, 2016.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to James Hilger, (858) 546-7140 or james.hilger@noaa.gov.

SUPPLEMENTARY INFORMATION:

I. Abstract

This request is for a new collection of information.

The Southwest Fisheries Science Center (SWFSC) is undertaking an economics data collection effort for the West Coast Coastal Pelagic Species (CPS) fleet to improve the SWFSC's capability to do the following: (1) Describe and monitor economic performance (e.g., profitability, capacity utilization, efficiency, and productivity) and impacts (e.g., sector, community, or region-specific employment and income); (2) determine the quantity and distribution of net benefits derived from living marine resources; (3) understand and predict the ecological, and behavior of participants in Federally managed commercial fisheries; (4) predict the biological, ecological, and economic impacts of existing management measures and alternative proposed management actions; and, (4) in general, more effectively conduct the analyses required under the MSA, the Endangered Species ACT (ESA), and the Marine Mammal Protection Act (MMPDA), the National Environmental Policy Act (NEP), and Regulatory Flexibility Act (RFA), Executive Order 12866, and other applicable law.

CPS fishery participants are defined as US west-coast purse seine vessels participating in the coastal pelagic species (CPS) fisheries—northern anchovy, Pacific mackerel, Pacific sardine, and/or market squid), we intend to survey all Washington-Oregon-California coastal purse seine vessels with sardine landings in any year between 2015 and the initiation of the survey. This includes vessels fishing off California in the limited entry program under the CPS Fishery Management Plan (FMP) and State permitted vessels fishing off Washington and Oregon.

II. Method of Collection

CPS fishery participants will be contacted and screened to participate in the data collection. A cost and earnings survey will be scheduled and administered to eligible respondents as appropriate. Screener, scheduling and survey modes may include in-person, internet, phone, or mail.

III. Data

OMB Control Number: 0648-xxxx.

Form Number(s): None.

Type of Review: Regular submission (request for a new information collection).

Affected Public: Business or other for-profit organizations.

Estimated Number of Respondents: 100.

Estimated Time per Response: 5 minutes for screener; 5 minutes to schedule survey for qualified and interested respondents; 60 minutes for the survey.

Estimated Total Annual Burden Hours: 95.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 23, 2016.
Sarah Brabson,
NOAA PRA Clearance Officer.

[FR Doc. 2016-15215 Filed 6-27-16; 8:45 am]

BILLING CODE 3510-22-P